DEPARTMENT OF TRANSPORTATION

Office of the Secretary

Aviation Proceedings, Agreements Filed the Week Ending November 12, 2004

The following Agreements were filed with the Department of Transportation under the provisions of 49 U.S.C. Sections 412 and 414. Answers may be filed within 21 days after the filing of the application.

Docket Number: OST-2004-19633.

Date Filed: November 9, 2004.

Parties: Members of the International Air Transport Association.

Subject:

PTC31 N&C/CIRC 0286 dated 12 November 2004

TC31 North and Central Pacific Japan-North American, Caribbean

Expedited Resolution 002bd

PTC31 N&C/CIRC 0287 dated 12 November 2004

TC31 North and Central Pacific

TC3-Central America, South America

Expedited Resolution 002bz r1-r4

Intended effective date: 15 January 2005.

Docket Number: OST-2004-19636.

Date Filed: November 10, 2004.

Parties: Members of the International Air Transport Association.

Subject:

PTC2 EUR 0590 dated 5 November 2004

PTC2 Within Europe Resolutions r1-r21

Minutes: PTC2 EUR 0587 dated 2 November 2004

Tables: PTC2 EUR Fares 0107 dated 5 November 2004

Intended effective date: 1 March 2005.

Andrea M. Jenkins,
Program Manager, Docket Operations, Federal Register Liaison.

[FR Doc. 04-26095 Filed 11-24-04; 8:45 am]

BILLING CODE 4910-62-P